ENVIRONMENTAL PROTECTION AGENCY

[FRL-8978-3]

Good Neighbor Environmental Board; Request for Nominations to the Good Neighbor Environmental Board

AGENCY: Environmental Protection Agency (EPA).

ACTION: Notice of request for nominations.

SUMMARY: The Environmental Protection Agency (EPA) is inviting nominations of qualified candidates to be considered for appointment to fill vacancies on the Good Neighbor Environmental Board. EPA values and welcomes diversity. In an effort to obtain nominations of diverse candidates, EPA encourages nominations of women and men of all racial and ethnic groups. Vacancies are expected to be filled by early spring 2010. Additional sources may be utilized in the solicitation of nominees.

SUPPLEMENTARY INFORMATION: The Good Neighbor Environmental Board was created by the Enterprise for the Americas Initiative Act of 1992. Under Executive Order 12916, implementation authority is delegated to the Administrator of the EPA. The Board is responsible for providing advice to the President and Congress on environmental and infrastructure issues and needs within the States contiguous to Mexico. The statute calls for the Board to have representatives from U.S. government agencies; the States of Arizona, California, New Mexico and Texas; local government; Tribes; and a variety of non-governmental officials including the private sector; academic officials; environmental group representatives; health groups; ranching and grazing interests; and other relevant sectors. U.S. government agency representatives are nominated by the heads of their agencies. Non-Federal members are appointed by the Administrator of the EPA. The Board meets three times annually, twice at various locations along the U.S.-Mexico Border and once in Washington, DC. The average workload for members is approximately 10 to 15 hours per month. Members serve on the Board in a voluntary capacity. However, EPA provides reimbursement for travel expenses associated with official government business. The following criteria will be used to evaluate nominees:

• Resident of a U.S.-Mexico border State, ideally within the border region itself.

• Representative of a sector or group that helps to shape border-region environmental policy or representatives of a group affected by border region environmental policy.

• Extensive professional knowledge of the unique environmental and infrastructure issues that are found in the region, including the bi-national dimension of these issues.

• Senior-level experience that fills a current need on the Board.

• Demonstrated ability to work in a consensus building process with diverse constituencies.

• Ability to volunteer approximately 10 to 15 hours per month to the Board's activities, including participation on meeting planning committees and preparation of text for annual reports and Comment Letters.

Nominations must include a résumé describing the professional and educational qualifications of the nominee, as well as the nominee's current business address, e-mail address, and daytime telephone number. Interested candidates may self-nominate.

ADDRESSES: Submit nominations to: Dolores Wesson, Designated Federal Officer, Office of Cooperative Environmental Management, U.S. Environmental Protection Agency (1601-M), 1200 Pennsylvania Avenue, NW., Washington, DC 20460.

FOR FURTHER INFORMATION CONTACT: Dolores Wesson, Designated Federal Officer, U.S. Environmental Protection Agency (1601-M), Washington, DC 20460; telephone (202) 564-1351; fax (202) 564-8129; e-mail wesson.dolores@epa.gov.

Dated: October 23, 2009.
Dolores Wesson,
Designated Federal Officer.

[FR Doc. E9-26839 Filed 11-5-09; 8:45 am]

BILLING CODE 6560-50-P